DEPARTMENT OF HEALTH AND HUMAN SERVICES

Centers for Disease Control and Prevention

ICD-9-CM Coordination and Maintenance Committee Meeting

National Center for Health Statistics (NCHS), Data Policy and Standards Staff, announces the following meeting.

Name: ICD-9-CM Coordination and Maintenance Committee meeting.

Times and Dates: 9 a.m.-5 p.m., November 1-2, 2001.

Place: Centers for Medicare and Medicaid Services (CMS)(formerly The Health Care Financing Administration) Auditorium, 7500 Security Boulevard, Baltimore, Maryland.

Status: Open to the public.

Purpose: The ICD-9-CM Coordination and Maintenance (C&M) Committee will hold its final meeting of the 2001 calendar year cycle on Thursday and Friday Nov. 1-2, 2001. The C&M meeting is a public forum for the presentation of proposed modifications to the International Classification of Diseases, Ninth-Revision, Clinical Modification.

Matters To Be Discussed: Agenda items include:

Discussion on use of V codes for procedures

Heart failure

Aftercare codes

Vascular disease

Facial droop following CVA

Ectopic pregnancy with uterine pregnancy

Pulmonary complications of cystic fibrosis

Asthma

Severe sepsis

West Nile Virus

Paint ball injury

Abnormal pap smear

ICD-10-PCS Update

Implantation of intramuscular electrodes

Brain wafer chemotherapy

Cardiac resynchronization therapy

Implantation of neosphincter

Spinal procedures-360 fusion, Interbody Fusion Devices, InFUSE bone grafts

Repair of Aneurysm/Arteriovenous malformation

Hepatic hemodialysis

Therapeutic ultrasound

Infusion of Drotrecogin Alfa (Activated)

Adhesion barriers for abdominal surgery

Extra-corporeal immunoadsorption (ECI)

Intraoperative MRI

Administration of inhaled nitric oxide

Drug-Eluting stent

Injection or infusion of Human B-type natriuretic peptide (hBNP)

Addenda

For Further Information Contact: Amy Blum, Medical Classification Specialist, Data Policy and Standards Staff, NCHS, 6526 Belcrest Road, Room 1100, Hyattsville, Maryland 20782, telephone 301/458-4106 (diagnosis), Amy Gruber, Health Insurance Specialist, Division of Acute Care, CMS, 7500 Security Blvd., Room C4-07-07, Baltimore, Maryland, 21244 telephone 410-786-1542 (procedures).

Notice: In the interest of security, (CMS) has instituted stringent procedures for entrance into the building by non-government employees. Persons without a government I.D. will need to show a photo I.D. and sign-in at the security desk upon entering the building.

Notice: This is a public meeting. However, because of fire code requirements, should the number of attendants meet the capacity of the room the meeting will be closed.

The Director, Management Analysis and Services Office, has been delegated the authority to sign Federal Register notices pertaining to announcements of meetings and other committee management activities, for both CDC and the Agency for Toxic Substances and Disease Registry.

Dated: October 1, 2001.
Carolyn J. Russell,
Director, Management Analysis and Services Office, Centers for Disease Control and Prevention.

[FR Doc. 01-25050 Filed 10-4-01; 8:45 am]

BILLING CODE 4160-18-P